FEDERAL COMMUNICATIONS COMMISSION

47 CFR Part 73

[MB Docket No. 23-287; RM-11961; DA 23-1055; FR ID 184580]

Television Broadcasting Services Idaho Falls, Idaho

AGENCY: Federal Communications Commission.

ACTION: Final rule.

SUMMARY: The Video Division, Media Bureau (Bureau), has before it a Notice of Proposed Rulemaking issued in response to a Petition for Rulemaking filed by NPG of Idaho, Inc. (Petitioner), the licensee of station KIFI-TV (KIFI or Station), channel 8, Idaho Falls, Idaho (Idaho Falls). The Petitioner has requested the substitution of UHF channel 18 for VHF channel 8 in the Table of TV Allotments. The Petitioner filed comments in support of the petition, as required by the Commission's rules (rules), reaffirming its commitment to apply for channel 18.

DATES: Effective November 21, 2023.

FOR FURTHER INFORMATION CONTACT: Joyce Bernstein, Media Bureau, at (202) 418-1647 or Joyce.Bernstein@fcc.gov.

SUPPLEMENTARY INFORMATION: The proposed rule was published at 88 FR 60612 on September 5, 2023. The Petitioner filed comments in support of the petition reaffirming its commitment to apply for channel 18. No other comments were received.

The Bureau believes the public interest would be served by substituting channel 18 for channel 8 at Idaho Falls, Idaho. In support of its channel substitution request, the Petitioner states that KIFI has received numerous complaints about reception of its channel 8 facility since the end of the DTV transition in 2009, and that the channel substitution will serve the public interest by resolving the reception issues currently experienced by viewers in the Station's service area and expanding the availability of reliable, free over-the-air network television service within the Station's market. In this regard, the Petitioner notes that the Commission has recognized that VHF channels pose challenges in providing digital television service, including propagation characteristics in the band that allow undesired signals and noise to interfere at relatively farther distances compared to UHF channels, and for nearby electrical devices to cause interference. Therefore, many current viewers within the Station's noise limited service contour who do not currently receive the Station will be able to do so once the channel substitution is implemented. Moreover, when using the Commission's TVStudy software tool, the proposed channel 18 facility will create a predicted service loss of only 327 persons, which the Petitioner asserts is de minimis.

As proposed, channel 18 can be substituted for channel 8 at Idaho Falls in compliance with the principal community coverage requirements of section 73.625(a) of the rules, at coordinates 43°30′04.0″ N and 112°39′46.0″ W. In addition, we find that this channel change meets the technical requirements set forth in sections 73.616 and 73.623 of the rules with the following specifications. Although the Petitioner's proposal would result in a loss of programming to a limited number of viewers, we find that the overall benefits of the proposed channel change in resolving reception issues outweighs any possible harm to the public interest. When taking into account terrain, the Petitioner's proposal would result in a loss of service to 327 persons, which the Commission considers to be a de minimis loss of service.

This is a synopsis of the Commission's Report and Order, MB Docket No. 23-287; RM-11961; DA 23-1055, adopted November 7, 2023, and released November 7, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of TV Allotments, under Idaho, by revising the entry for Idaho Falls to read as follows:

§ 73.622 Digital television table of allotments.

* * * * *

(j) * * *

Community | Channel No.
* * * * *
Idaho
* * * * *
Idaho Falls | 18, 20, 36.
* * * * *

* * * * *

[FR Doc. 2023-25393 Filed 11-20-23; 8:45 am]

BILLING CODE 6712-01-P